DEPARTMENT OF HEALTH AND HUMAN SERVICES

National Institutes of Health

Office of Health Assessment and Translation Webinar on the Assessment of Data Quality in Animal Studies; Notice of Public Webinar and Registration Information

SUMMARY: The National Toxicology Program (NTP) announces a public, web-based meeting on the assessment of data quality in animal studies. The Office of Health Assessment and Translation (OHAT), Division of the National Toxicology Program (DNTP), National Institute of Environmental Health Sciences (NIEHS) will host the web-based meeting using Adobe® Connect ™ and the public can register to attend.

DATES:

Registration for web-based meeting: Deadline is March 18, 2013.

Meeting: March 20, 2013, 2:00-4:30 p.m. Eastern Daylight Time (EDT). Registrants will receive information by email to access the web-based meeting on or before March 19, 2013.

ADDRESSES: Agency Web site: The agenda, registration, and other information are available at http://ntp.niehs.nih.gov/go/38752.

FOR FURTHER INFORMATION CONTACT: Dr. Andrew Rooney, Deputy Director, OHAT, DNTP, NIEHS, P.O. Box 12233, K2-04, Research Triangle Park, NC 27709. Phone: 919-541-2999, Fax: 301-480-3299, Email: Andrew.Rooney@nih.gov.

SUPPLEMENTARY INFORMATION: Background: The OHAT, DNTP, NIEHS, has led an effort for the NTP to develop an approach to carry out literature-based health assessments that incorporates systematic review methodology (available at http://ntp.niehs.nih.gov/go/38673).

The NTP plans to hold a series of web-based, public meetings with a focus on methodological issues related to OHAT implementing systematic review. The first will focus on the assessment of data quality in animal studies. The meeting will begin with invited presentations related to the assessment of study quality followed by a general discussion period.

Webinar and Registration: The OHAT will host a web-based, public meeting on the assessment of data quality in animal studies on March 20, 2013, 2:00-4:30 p.m. EDT. The public may register for the webinar at http://ntp.niehs.nih.gov/go/38752. The deadline for registration for the webinar is March 18. Registrants will receive information by email to access the web-based meeting (via Adobe® Connect ™) on or before March 19, 2013. The preliminary agenda is available at http://ntp.niehs.nih.gov/go/38752. Registrants are encouraged to access the Web site to stay abreast of current information about this event.

Public Participation: The meeting will be interactive with opportunities for the public to ask presenters specific questions and participate in the general discussion period. Instructions for participating in the meeting using Adobe® Connect ™ will be included in the information for accessing the webinar. Individuals with disabilities who need accommodations to participate in this event should contact Dr. Andrew Rooney (See FOR FURTHER INFORMATION CONTACT). TTY users should contact the Federal TTY Relay Service at (800) 877-8330. Requests should be made at least 5 business days in advance of the web-based meeting.

Background Information on OHAT: OHAT was established to serve as an environmental health resource to the public and regulatory and health agencies (http://www.ncbi.nlm.nih.gov/pmc/articles/PMC3094430). This office conducts evaluations to assess the evidence that environmental chemicals, physical substances, or mixtures (collectively referred to as “substances”) cause adverse health effects and provides opinions on whether these substances may be of concern given what is known about current human exposure levels. OHAT also organizes workshops or state-of-the-science evaluations to address issues of importance in environmental health sciences. OHAT assessments are published as NTP Monographs. Information about OHAT is found at http://ntp.niehs.nih.gov/go/ohat.

Dated: March 4, 2013.
John R. Bucher,
Associate Director, National Toxicology Program.

[FR Doc. 2013-05406 Filed 3-7-13; 8:45 am]

BILLING CODE 4140-01-P